DEPARTMENT OF TRANSPORTATION

Federal Transit Administration

Environmental Impact Statement; Mukilteo, WA

AGENCY: Federal Transit Administration (FTA), Department of Transportation (DOT).

ACTION: Notice of Intent to prepare an Environmental Impact Statement (EIS).

SUMMARY: The Federal Transit Administration is issuing this notice to advise the public, agencies and Indian tribes that an Environmental Impact Statement (EIS) will be prepared for proposed development of a multimodal ferry terminal in the City of Mukilteo, Snohomish County, Washington.

DATES: Written comments on the scope of alternatives and impacts to be considered in the EIS must be received no later than April 5, 2006, and must be sent to Washington State Ferries at the address indicated below.

Scoping Meeting Dates: Two public information meetings will be held in March 2006, including: Tuesday, March 21, 2006, 6 p.m.-8 p.m., at the Mukilteo Water District, Administration Building, 7824 Mukilteo Speedway, Mukilteo, Washington; Wednesday, March 22, 2006, 6 p.m.-8 p.m., Clinton Progressive Hall, 6411 Central Avenue, Clinton, Whidbey Island, Washington. Oral and written comments may be given at the public meetings.

All public information locations are accessible to persons with disabilities who may also request this information be prepared and supplied in alternate formats by calling Joy Goldenberg, (206) 515-3411 at least 48-hours in advance of the meeting for WSDOT/WSF to make necessary arrangement. Persons who are deaf or hard of hearing may access Washington State Telecommunications Relay Service by dialing 7-1-1 and asking to be connected to (206) 515-3411.

ADDRESSES: Comments or questions concerning this proposal will be accepted at the public meetings or can be sent to Kerry Ruth, P.E., Washington State Ferries, 2901 Third Avenue, Suite 500, Seattle, WA 98121; by Fax at 206-515-3740; or by e-mail to mukilteoferryproject@wsdot.wa.gov.

FOR FURTHER INFORMATION CONTACT: Bill Ramos, Federal Transit Administration, 915 2nd Avenue, Suite 3142, Seattle, WA 98174, Telephone: 206-220-4319 or Kerry Ruth, Washington State Ferries, 2901 Third Avenue, Suite 500, Seattle, WA 98121, Telephone: 206-515-3896. Additional information on the Mukilteo Multimodal Ferry Terminal can be found on the project Web site at http://www.wsdot.wa.gov/Projects/mukilteoterminal/.

SUPPLEMENTARY INFORMATION:

Proposed Action Background

The FTA and Washington State Department of Transportation (WSDOT) Washington State Ferries (WSF) will prepare an environmental impact statement (EIS) on proposed relocation and expansion of the Mukilteo Ferry Terminal as a multimodal ferry terminal in the City of Mukilteo, Snohomish County, Washington. The multimodal center will be located east of the existing ferry terminal at a former U.S. Department of Defense, Defense Fuel Supply Point facility, known locally as the Tank Farm. Last rebuilt in 1952, the Mukilteo Ferry Terminal has limited ability to meet current and projected demands for use. The Mukilteo-Clinton ferry route, part of State Route (SR) 525, is the major transportation corridor between Island County (Whidbey Island) and the central Puget Sound mainland and is the second busiest vehicle traffic route in the WSF system. 2014 travel demand projections show a third boat and second ferry slip are necessary. The existing terminal is aging and in need of major repairs. It cannot efficiently handle current and projected growth on the route nor meet future security requirements. The multimodal ferry terminal will accommodate projected growth for both passengers and vehicles on the route. Access for ferry passengers to rail and bus connections and terminal operations will improve. The overall circulation and safety for pedestrians, bicyclists and motorists will improve, including access to the waterfront.

WSF concluded from several studies since the late 1970s, which examined alternative transportation routes across the Puget Sound, a focus on multimodal connections and passenger-only ferry service in long-range planning. A 1988 study by the Washington State Transportation Commission recommended three-boat service for the Mukilteo-Clinton route based on projected demand. A 1992 Clinton Terminal Plan confirmed the need for a three-boat schedule, and the reconstructed terminal at Clinton was completed in 2004. WSDOT concurred with a 1995 City of Mukilteo Multimodal Terminal Access Study State EIS preference for the Central Waterfront Alternative, which locates the multimodal center on the Tank Farm property. The proposal was incorporated into the City of Mukilteo comprehensive plan in 1996. A 1999 Memorandum of Understanding between several agencies, including the WSDOT/WSF, Cities of Mukilteo and Everett, the Port of Everett, and Sound Transit, sets forth development of the Tank Farm property to include the Mukilteo Multimodal Ferry Terminal and the Sound Transit commuter rail station, the Mukilteo Sounder Station. The 1999 Seattle-to-Everett Commuter Rail EIS completed by FTA and Sound Transit determined the location of the commuter rail station in the Mukilteo central waterfront area.

WSF built on the previous studies and agreements with the 2003-2004 Master Plan for Mukilteo Waterfront that resulted in three multimodal ferry terminal options for further study in an Environmental Assessment (EA), No Action, a Compact Terminal, and an Upland Terminal. The Mukilteo Multimodal Ferry Terminal EA process began in October 2004 with agency and public scoping, and resulted in a Public Scoping Summary Report completed in November 2004. Upon completing draft environmental discipline studies of possible effects of the potential alternatives for the terminal, it was determined the proposed action may substantially affect the quality of the human and natural environment and may benefit from the more detailed analysis, and therefore, it was elected to prepare an EIS.

Alternatives

The EIS will address, at a minimum, the no action alternative and the following action alternatives:

Compact Terminal Alternative: This alternative relocates and develops the ferry terminal as a multimodal center east of the existing ferry terminal with a capacity for 260 vehicles and a 2.6-acre vehicle holding area over water. Extension of First Street accesses the terminal and separates ferry traffic from the local traffic on Front Street. First Street will provide vehicle holding for ferry boarding lanes. A pedestrian bridge will connect the ferry terminal to the proposed Sound Transit commuter rail station and commuter parking (which are not part of this project). This joint-use parking garage will provide 275 to 400 parking stalls. The facility transit center will accommodate seven bus bays with a passenger pick-up and drop-off area.

Upland Terminal Alternative: This alternative relocates and develops the ferry terminal as a multimodal center east of the existing ferry terminal with a capacity for 260 vehicles and approximately 12-13-acres of vehicle holding area on land. Access to the terminal and transit station will be from Front Street and require vehicles approaching the center from State Route 525 to queue on First Street as vehicle holding for ferry boarding lanes. A pedestrian bridge will connect the ferry terminal to the proposed Sound Transit commuter rail station and commuter parking (which are not part of this project). This joint-use parking garage for this alternative will provide up to 480 parking stalls. The facility transit center will accommodate seven bus bays with a passenger pick-up and drop-off area. Other alternatives presented during the scoping action will also be considered for evaluation in the EIS.

Probable Effects

The FTA and WSF will evaluate all transportation, environmental, social, and economic effects of the alternatives. Potential areas of impact include: Noise and vibration; natural, cultural, and visual resources; environmental justice; and support of tribal government resource plans. All effects will be evaluated for both the construction period and the long-term period of operation. Secondary and cumulative impacts will also be evaluated. Measures to avoid, minimize and mitigate any significant effects will be developed.

Scoping

Agency Coordination: The project sponsors are working with the local, state and federal resource agencies to implement regular opportunities for coordination during the National Environmental Policy Act (NEPA) process. This process will comply with SAFETEA-LU section 6002.

Tribal Coordination: The formal Tribal government consultation will occur through government-to-government collaboration.

The dates and addresses of the scoping meeting are given in the DATES section above. The Washington State Dept. of Transportation (WSDOT) assures full compliance with Title VI of the Civil Rights Act of 1964 by prohibiting discrimination based on race, color, national origin and sex in the provision of benefits and services. For language interpretation services please contact Joy Goldenberg at (206) 515-3411. For information on the WSDOT Title VI Program, please contact the Title VI Coordinator at (360) 705-7098.

(Catalog of Federal Domestic Assistance Program Number 20.205, Highway, Research, Planning and Construction. The regulations implementing Executive Order 12372 regarding intergovernmental consultation on Federal programs and activities apply to this program.)

Issued on: February 14, 2006.
R. F. Krochalis,
Regional Administrator, Region X, Federal Transit Administration.

[FR Doc. E6-2356 Filed 2-16-06; 8:45 am]

BILLING CODE 4910-57-P